DEPARTMENT OF HEALTH AND HUMAN SERVICES

Announcement of Intent To Establish the Secretary's Advisory Committee on National Health Promotion and Disease Prevention Objectives for 2030 and Solicitation of Nominations for Membership; Correction

AGENCY: Office of Disease Prevention and Health Promotion, Office of the Assistant Secretary for Health, Office of the Secretary, U.S. Department of Health and Human Services.

ACTION: Notice; correction.

SUMMARY: In the Federal Register notice first published on March 17, 2016, on page 14455, and corrected on April 12, 2016, on page 21581, the U.S. Department of Health and Human Services announced its intent to establish the Secretary's Advisory Committee on National Health Promotion and Disease Prevention Objectives for 2030 (Committee) and invited nominations for membership. The nomination period is scheduled to end at 6:00 p.m. on April 18, 2016. The notice is being amended to extend the solicitation period for nominations for two weeks to allow more time for interested individuals to submit nominations.

FOR FURTHER INFORMATION CONTACT: Emmeline Ochiai, email address: HP2030@hhs.gov.

Correction

In the Federal Register, dated March 17, 2016, on page 14455, correct the DATES section to read:

Nominations for membership to the Committee must be submitted by 6:00 p.m. Eastern Time on May 2, 2016.

Dated: April 13, 2016.
Donald Wright,
Deputy Assistant Secretary for Health, Disease Prevention and Health Promotion.

[FR Doc. 2016-09132 Filed 4-21-16; 8:45 am]

BILLING CODE 4150-32-P